FEDERAL TRADE COMMISSION

Agency Information Collection Activities; Submission for OMB Review; Comment Request

AGENCY: Federal Trade Commission (FTC).

ACTION: Notice and request for comment.

SUMMARY: The FTC requests that the Office of Management and Budget (OMB) extend for three years the current Paperwork Reduction Act (PRA) clearance for information collection requirements contained in the Commission's rules and regulations under the Textile Fiber Products Identification Act (Textile Rules). That clearance expires on May 31, 2021.

DATES: Comments must be received by June 10, 2021.

ADDRESSES: Written comments and recommendations for the proposed information collection should be sent within 30 days of publication of this notice to www.reginfo.gov/public/do/PRAMain. Find this particular information collection by selecting “Currently under 30-day Review—Open for Public Comments” or by using the search function. The reginfo.gov web link is a United States Government website produced by OMB and the General Services Administration (GSA). Under PRA requirements, OMB's Office of Information and Regulatory Affairs (OIRA) reviews Federal information collections.

FOR FURTHER INFORMATION CONTACT: Jock K. Chung, Attorney, Division of Enforcement, Bureau of Consumer Protection, Federal Trade Commission, Mail Code CC-9528, 600 Pennsylvania Ave. NW, Washington, DC 20580, (202) 326-2984.

SUPPLEMENTARY INFORMATION:

Title: Rules and Regulations under the Textile Fiber Products Identification Act, 16 CFR part 303.

OMB Control Number: 3084-0101.

Type of Review: Extension of a currently approved collection.

Likely Respondents: Manufacturers, importers, processors and marketers of textile fiber products.

Frequency of Response: Third party disclosure; recordkeeping requirement.

Estimated annual hours burden: 37,234,317 hours (1,180,725 recordkeeping hours + 36,053,592 disclosure hours).

Recordkeeping: 1,180,725 hours (approximately 18,165 textile firms incur average burden of 65 hours per firm)

Disclosure: 36,053,592 hours (621,725 hours to determine label content + 765,200 hours to draft and order labels + 34,666,667 hours to attach labels)

Estimated annual cost burden: $243,170,994 (solely relating to labor costs).¹

¹ Due to newly available information on hourly wage rates, the estimated annual labor costs were adjusted downward from $280,335,935 in the 60-Day FR Notice to $243,170,994 in the 30-Day FR Notice.

Abstract: The Textile Fiber Products Identification Act (Textile Act) ² prohibits the misbranding and false advertising of textile fiber products. The Textile Rules establish disclosure requirements that assist consumers in making informed purchasing decisions, and recordkeeping requirements that assist the Commission in enforcing the Rules. The Rules also contain a petition procedure for requesting the establishment of generic names for textile fibers.

² 15 U.S.C. 70 et seq.

Request for Comment

On February 23, 2021, the FTC sought public comment on the information collection requirements associated with the Rule. 86 FR 10967. The Commission received no germane comments. Pursuant to the OMB regulations, 5 CFR part 1320, that implement the PRA, 44 U.S.C. 3501 et seq., the FTC is providing this second opportunity for public comment while seeking OMB approval to renew the pre-existing clearance for the Rule.

Your comment—including your name and your state—will be placed on the public record of this proceeding. Because your comment will be made public, you are solely responsible for making sure that your comment does not include any sensitive personal information, such as anyone's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including in particular competitively sensitive information such as costs, sales statistics, inventories, formulas, patterns, devices, manufacturing processes, or customer names.

Josephine Liu,
Assistant General Counsel for Legal Counsel.

[FR Doc. 2021-09925 Filed 5-10-21; 8:45 am]

BILLING CODE 6750-01-P